ENVIRONMENTAL PROTECTION AGENCY

[FRL-7471-1]

Agency Information Collection Activities; OMB Responses

AGENCY: Environmental Protection Agency (EPA).

ACTION: Notices.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or email at auby.susan@epa.gov and please refer to the appropriate EPA Information Collection Request (ICR) Number.

SUPPLEMENTARY INFORMATION:

OMB Responses to Agency Clearance Requests

OMB Approvals

EPA ICR No. 2057.01; Eliciting Risk Tradeoffs for Valuing Fatal Cancer Risks; was approved 02/13/2003; OMB Number 2060-0502; expires 02/28/2006.

EPA ICR No. 1230.11; Prevention of Significant Deterioration Non-Attainment Area New Source Review (Final Rule for PSD and NSR Applicability); was approved 02/28/2003; in 40 CFR 51.160 to 51.166, 52.21, 52.24; OMB Number 2060-0003; expires 10/31/2004.

Comment Filed

EPA ICR No. 2045.01; National Emission Standards for Hazardous Air Pollutants for Automobile and Light-duty Trucks Surface Coating (Proposed Rule); on 02/13/2003 OMB filed a comment.

Dated: March 10, 2003.
Oscar Morales,
Director, Collection Strategies Division.

[FR Doc. 03-6814 Filed 3-20-03; 8:45 am]

BILLING CODE 6560-50-P